OFFICE OF PERSONNEL MANAGEMENT

5 CFR Part 532

RIN 3206-AJ21

Prevailing Rate Systems; Miscellaneous Changes in Certain Federal Wage System Wage Areas

AGENCY: Office of Personnel Management.

ACTION: Final rule.

SUMMARY: The Office of Personnel Management is issuing a final rule to add Jefferson County, Washington, as an area of application to the Kitsap, WA, nonappropriated fund (NAF) Federal Wage System (FWS) wage area. We are also renaming the Champaign-Urbana, IL, FWS wage area as the Central Illinois FWS wage area; updating the name of White Sands Proving Grounds in the El Paso, TX, and Albuquerque, NM, wage area listings to White Sands Missile Range; and correcting a typographical error in the wage area listing for the Southern Colorado wage area.

DATES: Effective Date: This regulation is effective on November 27, 2000.

FOR FURTHER INFORMATION CONTACT: Chenty I. Carpenter by phone at (202) 606-2838, by FAX at (202) 606-4264, or by e-mail at cicarpen@opm.gov.

SUPPLEMENTARY INFORMATION: On August 9, 2000, the Office of Personnel Management (OPM) published an interim rule (65 FR 48641) to add Jefferson County, Washington, as an area of application to the Kitsap, WA, nonappropriated fund (NAF) wage area and to make miscellaneous changes in certain Federal wage system wage areas. The interim rule had a 30-day period for public comment, during which we received no comments.

Jefferson County

The Naval Ordnance Center, Pacific Division, Detachment Port Hadlock, now has a small club in Jefferson County. The club employs two NAF FWS employees. Under section 532.219 of title 5, Code of Federal Regulations, each NAF wage area “shall consist of one or more survey areas, along with nonsurvey areas, having nonappropriated fund employees.” The Kitsap wage area consisted of one survey county, Kitsap County, and one area of application county, Clallam County, WA.

OPM considers the following regulatory criteria under 5 CFR 532.219 when defining FWS wage area boundaries:

(i) Proximity of largest activity in each county;

(ii) Transportation facilities and commuting patterns; and

(iii) Similarities of the counties in:

(A) Overall population;

(B) Private employment in major industry categories; and

(C) Kinds and sizes of private industrial establishments.

Jefferson County cannot be defined as a separate NAF wage area because the county does not meet the regulatory criteria to be a separate NAF wage area. However, nonsurvey counties can be combined with a survey area to form a wage area. Therefore, we are defining Jefferson County as an area of application to an existing NAF wage area.

The Naval Submarine Base, Bangor, in the Kitsap survey area, is the closest major Federal installation to Port Hadlock. It is approximately 53 km (33 miles) from Port Hadlock. Commuting patterns data for Jefferson County indicate that 6 percent of the county's resident workforce commutes to work in the Kitsap survey area. Transportation facilities consist of major interstates and highways. Residents of Jefferson County who commute into Pierce and Snohomish Counties must use a ferry or drive around Puget Sound to reach either of these counties. A review of employment and kinds and sizes of industrial establishments shows that Jefferson County is closely similar to the Kitsap survey area.

The Federal Prevailing Rate Advisory Committee (FPRAC), the national labor-management committee that advises OPM on FWS pay matters, reviewed and concurred by consensus with this change.

Miscellaneous Changes

FPRAC also reviewed the Champaign-Urbana, IL, FWS wage area and determined that the wage area's counties are properly defined under the regulatory criteria for defining FWS wage areas. However, the Committee agreed by consensus to recommend that OPM rename the wage area as the Central Illinois FWS wage area because this name better describes the boundaries of the wage area. FPRAC reviewed the El Paso FWS wage area and determined that the wage area's counties are also properly defined. The Committee agreed by consensus to recommend that OPM update the name of White Sands Proving Grounds because the Department of Defense now refers to it as White Sands Missile Range. White Sands Proving Grounds was listed under the El Paso and Albuquerque wage areas; therefore, we have updated the name in the listing for both wage areas.

On May 5, 2000, we published a final rule (65 FR 26199) that redefined certain counties in the Southern Colorado and Denver, CO, FWS wage areas. FPRAC agreed to redefine Pitkin County, CO, from the Southern Colorado wage area to the Denver wage area. Because of a typographical error, Pitkin County appeared under both wage area listings in appendix C of subpart B of part 532 of title 5, Code of Federal Regulations. We should have removed Pitkin County from the Southern Colorado wage area listing in the final rule. This final rule corrects the previous final rule and reflects FPRAC's recommendation for the county.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Accordingly, under the authority of 5 U.S.C. 5343, the interim rule (65 FR 48641) amending 5 CFR part 532 published on August 9, 2000, is adopted as final with no changes.

U.S. Office of Personnel Management.
Janice R. Lachance,
Director.

[FR Doc. 00-27514 Filed 10-26-00; 8:45 am]

BILLING CODE 6325-01-P